DEPARTMENT OF AGRICULTURE

Forest Service

National Urban and Community Forestry Advisory Council

AGENCY: Forest Service, USDA.

ACTION: Notice of meeting cancellation.

SUMMARY: On September 18, 2001, the Forest Service published notice in the Federal Register (66 FR 48114) of a National Urban and Community Forestry Advisory Council meeting to be held in Burlington, Vermont, October 4-6, 2001. That meeting has been cancelled. Notices of future meetings of the Advisory Council will be published in the Federal Register.

FOR FURTHER INFORMATION CONTACT: Suzanne M. del Villar, Cooperative Forestry Staff, (209) 536-9201.

Dated: September 20, 2001.
Michael T. Rains,
Deputy Chief, State and Private Forestry.

[FR Doc. 01-24249 Filed 9-26-01; 8:45 am]

BILLING CODE 3410-11-P